DEPARTMENT OF HEALTH AND HUMAN SERVICES

Public Meeting of the President's Council on Bioethics on March 6-7, 2003

AGENCY: The President's Council on Bioethics, HHS.

ACTION: Notice.

SUMMARY: The President's Council on Bioethics will hold its 10th meeting, at which it will discuss the regulation of biotechnology, with presentations on professional self-regulation of the assisted reproduction industry by: Dr. Sandra A. Carson, president of the American Society for Reproductive Medicine (ASRM) and Dr. George J. Annas, Boston University School of Public Health. The Council will also hear from Dr. Steven Pinker, Massachusetts Institute of Technology (MIT), on human nature, and Dr. Steven E. Hyman, Harvard University, on pediatric psychopharmacology. Subjects discussed at past Council meetings (and potentially touched on at this meeting) include: Human cloning; embryonic stem cell research; the patentability of human organisms; preimplantation genetic diagnosis and screening (PGD); sex selection techniques; inheritable genetic modification (IGM); international models of biotech regulation; organ procurement for transplantation; extra-therapeutic powers to enhance or improve human mood, memory, and muscles; and research to extend the human lifespan.

DATES: The meeting will take place Thursday, March 6, 2003, from 9 a.m. to 5:15 p.m. e.t.; and Friday, March 7, 2003, from 8:30 a.m. to 1 p.m. e.t.

ADDRESSES: Sheraton National Hotel, 900 S. Orme Street, Arlington, VA 22204.

Public Comments: The meeting agenda will be posted at http://www.bioethics.gov. Members of the public may comment, either in person or in writing. A period of time will be set aside during the meeting to receive comments from the public. It begins at noon on Friday, March 7, 2003. Comments will be limited to no more than five minutes per speaker or organization. Please inform Ms. Diane Gianelli, Director of Communications, in advance of your intention to make a public statement, giving her your name, affiliation, and a brief description of the topic or nature of your comments. To submit a written statement, mail or e-mail it to Ms. Gianelli at one of the addresses given below.

FOR FURTHER INFORMATION CONTACT: Ms. Diane Gianelli, Director of Communications, The President's Council on Bioethics, Suite 600, 1801 Pennsylvania Avenue, Washington, DC 20006. Telephone: 202/296-4669. E-mail: info@bioethics.gov. Web site: http://www.bioethics.gov.

Dated: February 13, 2003.
Dean Clancy,
Executive Director, The President's Council on Bioethics.

[FR Doc. 03-4355 Filed 2-24-03; 8:45 am]

BILLING CODE 4150-24-P